NUCLEAR REGULATORY COMMISSION

[NRC-2015-0055]

Biweekly Notice; Applications and Amendments to Facility Operating Licenses and Combined Licenses Involving No Significant Hazards Considerations

AGENCY: Nuclear Regulatory Commission.

ACTION: Biweekly notice.

SUMMARY: Pursuant to section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from February 19, 2015 to March 4, 2015. The last biweekly notice was published on March 3, 2015.

DATES: Comments must be filed by April 16, 2015. A request for a hearing must be filed by May 18, 2015.

ADDRESSES: You may submit comments by any of the following methods (unless this document describes a different method for submitting comments on a specific subject):

• Federal Rulemaking Web site: Go to http://www.regulations.gov and search for Docket ID NRC-2015-0055. Address questions about NRC dockets to Carol Gallagher; telephone: 301-415-3463; email: Carol.Gallagher@nrc.gov.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Beverly A. Clayton, Office of Nuclear Reactor Regulation, U.S. Nuclear Regulatory Commission, Washington, DC 20555-0001; telephone: 301-415-3475, email: Beverly.Clayton@nrc.gov.

SUPPLEMENTARY INFORMATION:

I. Obtaining Information and Submitting Comments

A. Obtaining Information

Please refer to Docket ID NRC-2015-0055 when contacting the NRC about the availability of information for this action. You may obtain publicly-available information related to this action by any of the following methods:

• Federal Rulemaking Web site: Go to http://www.regulations.gov and search for Docket ID NRC-2015-0055.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2015-0055, facility name, unit number(s), application date, and subject in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) the name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Duke Energy Florida, Inc. (DEF), et al., Docket No. 50-302, Crystal River, Unit 3 Nuclear Generating Plant (CR-3), Citrus County, Florida

Date of amendment request: November 7, 2014. A publicly-available version is in ADAMS under Accession No. ML14321A450.

Description of amendment request: The amendment would reflect the transfer of ownership, held by eight minority co-owners, in CR-3 to DEF. The transfer of ownership will take place pursuant to the Settlement, Release and Acquisition Agreement, dated September 26, 2014, wherein DEF will purchase the 6.52 percent combined ownership share in CR-3 held by these minority co-owners, leaving DEF and Seminole Electric Cooperative, Inc., as the remaining licensees for CR-3.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not involve a significant increase in the probability of any accident previously evaluated because no accident initiators or assumptions are affected. The proposed license transfers are administrative in nature and have no direct effect on any plant system, plant personnel qualifications, or the operation and maintenance of CR-3.

2. Does the proposed change create the possibility of a new or different kind of accident from any accident previously evaluated?

Response: No.

The proposed changes do not create the possibility of a new or different kind of accident from any previously evaluated because no new accident initiators or assumptions are introduced by the proposed changes. The proposed license transfers are administrative in nature and have no direct effect on any plant system, plant personnel qualifications, or operation and maintenance of CR-3.

3. Does the proposed amendment involve a significant reduction in a margin of safety?

Response: No.

The proposed changes do not involve a significant reduction in a margin of safety because the proposed changes do not involve changes to the initial conditions contributing to accident severity or consequences, or reduce response or mitigation capabilities. The proposed license transfers are administrative in nature and have no direct effect on any plant system, plant personnel qualifications, or operation and maintenance of CR-3.

The NRC staff has reviewed the licensee's analysis and, based on this review, it appears that the three standards of 50.92(c) are satisfied. Therefore, the NRC staff proposes to determine that the amendment request involves no significant hazards consideration.

Attorney for licensee: Lara S. Nichols, 550 South Tryon Street, Charlotte NC 28202.

NRC Branch Chief: Douglas A. Broaddus.

Entergy Nuclear Operations, Inc., Docket No. 50-247, Indian Point Nuclear Generating, Unit 2, Westchester County, New York

Date of amendment request: December 9, 2014. A publicly-available version is in ADAMS under Accession No. ML14353A015.

Description of amendment request: The amendment would revise Technical Specification 5.5.14, “Containment Leakage Rate Testing Program,” to extend the frequency of the Containment Integrated Leak Rate Test or Type A Test from once every 10 years to once every 15 years on a permanent basis.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment involves changes to the IP2 [Indian Point Unit No. 2] containment leakage rate testing program. The proposed amendment does not involve a physical change to the plant or a change in the manner in which the plant is operated or controlled. The primary containment function is to provide an essentially leak tight barrier against the uncontrolled release of radioactivity to the environment for postulated accidents. As such, the containment itself and the testing requirements to periodically demonstrate the integrity of the containment exist to ensure the plant's ability to mitigate the consequences of an accident do not involve any accident precursors or initiators.

Therefore, the probability of occurrence of an accident previously evaluated is not significantly increased by the proposed amendment.

The proposed amendment adopts the NRC accepted guidelines of NEI 94-01, Revision 2A, for development of the IP2 performance-based testing program for the Type A testing. Implementation of these guidelines continues to provide adequate assurance that during design basis accidents, the primary containment and its components would limit leakage rates to less than the values assumed in the plant safety analyses. The potential consequences of extending the ILRT [integrated leak rate test] interval to 15 years have been evaluated by analyzing the resulting changes in risk. The increase in risk in terms of person-rem per year within 50 miles resulting from design basis accidents was estimated to be acceptably small and determined to be within the guidelines published in RG 1.174. Additionally, the proposed change maintains defense-in-depth by preserving a reasonable balance among prevention of core damage, prevention of containment failure, and consequence mitigation. Entergy has determined that the increase in conditional containment failure probability due to the proposed change would be very small. Therefore, it is concluded that the proposed amendment does not significantly increase the consequences of an accident previously evaluated.

Therefore, the proposed change does not involve a significant increase in the probability or consequences of an accident previously evaluated.

2. Does the proposed amendment create the possibility of a new or different kind of accident from any accident previously evaluated?

Response: No.

The proposed amendment adopts the NRC-accepted guidelines of NEI 94-01, Revision 2A, for the development of the IP2 performance-based leakage testing program, and establishes a 15-year interval for the performance of the containment ILRT. The containment and the testing requirements to periodically demonstrate the integrity of the containment exist to ensure the plant's ability to mitigate the consequences of an accident do not involve any accident precursors or initiators. The proposed change does not involve a physical change to the plant (i.e., no new or different type of equipment will be installed) or a change to the manner in which the plant is operated or controlled.

Therefore, the proposed change does not create the possibility of a new or different kind of accident from any previously evaluated.

3. Does the proposed amendment involve a significant reduction in a margin of safety?

Response: No.

The proposed amendment adopts the NRC-accepted guidelines of NEI 94-01, Revision 2A, for the development of the IP2 performance-based leakage testing program, and establishes a 15-year interval for the performance of the containment ILRT. This amendment does not alter the manner in which safety limits, limiting safety system setpoints, or limiting conditions for operation are determined. The specific requirements and conditions of the containment leakage rate testing program, as defined in the TS [technical specifications], ensure that the degree of primary containment structural integrity and leak-tightness that is considered in the plant's safety analysis is maintained. The overall containment leakage rate limit specified by the TS is maintained, and the Type A containment leakage tests would be performed at the frequencies established in accordance with the NRC-accepted guidelines of NEI 94-01, Revision 2A with no change to the 60 month frequencies of Type B, and Type C tests.

Containment inspections performed in accordance with other plant programs serve to provide a high degree of assurance that the containment would not degrade in a manner that is not detectable by an ILRT. A risk assessment using the current IP2 PSA [probabilistic safety assessment] model concluded that extending the ILRT test interval from ten years to 15 years results in a very small change to the risk profile.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Jeanne Cho, Assistant General Counsel, Entergy Nuclear Operations, Inc., 440 Hamilton Avenue, White Plains, NY 10601.

NRC Branch Chief: Benjamin G. Beasley.

Exelon Generation Company, LLC, Docket No. 50-410, Nine Mile Point Nuclear Station, Unit 2 (NMP2), Oswego County, New York

Date of amendment request: November 19, 2014. A publicly-available version is in ADAMS under Accession No. ML14329A353.

Description of amendment request: The proposed amendment would modify the Nine Mile Point (NMP) Nuclear Station, Unit 2 Technical Specifications (TS) by relocating specific surveillance frequencies to a licensee-controlled program with the adoption of Technical Specification Task Force (TSTF)-425, Revision 3, “Relocate Surveillance Frequencies to Licensee Control—Risk Informed Technical Specification Task Force (RITSTF) Initiative 5b.” The licensee's application dated November 19, 2014, Attachment 1, section 2.2, has identified some variations or deviations from the TSTF-425. Additionally, the change would add a new program, the Surveillance Frequency Control Program, to TS section 5, Administrative Controls. The NRC staff issued a notice of opportunity for comment in the Federal Register on December 5, 2008, 73 FR 74202, on possible amendments to revise the plant specific TS, to Relocate Surveillance Frequencies to Licensee Control—RITSTF Initiative 5b. The Notice included a model safety evaluation and model No Significant Hazards Consideration (NSHC) determination, using the consolidated line-item improvement process. The NRC staff subsequently issued a notice of availability of the models for referencing in license amendment applications in the Federal Register on July 6, 2009 (74 FR 31996). The licensee affirmed the applicability of the model NSHC determination in its application dated November 19, 2014, which is presented below.

Basis for proposed no significant hazards consideration determination: As required by 10 CFR 50.91(a), the licensee has provided its analysis of the issue of no significant hazards consideration, which is presented below:

1. Do the proposed changes involve a significant increase in the probability or consequences of an accident previously evaluated?

Response: No.

The proposed changes relocate the specified frequencies for periodic surveillance requirements to licensee control under a new Surveillance Frequency Control Program (SFCP). Surveillance frequencies are not an initiator to any accident previously evaluated. As a result, the probability of any accident previously evaluated is not significantly increased. The systems and components required by the technical specifications for which the surveillance frequencies are relocated are still required to be operable, meet the acceptance criteria for the surveillance requirements, and be capable of performing any mitigation function assumed in the accident analysis. As a result, the consequences of any accident previously evaluated are not significantly increased.

Therefore, the proposed changes do not involve a significant increase in the probability or consequences of an accident previously evaluated.

2. Do the proposed changes create the possibility of a new or different kind of accident from any accident previously evaluated?

Response: No.

No new or different accidents result from utilizing the proposed changes. The changes do not involve a physical alteration of the plant (i.e., no new or different type of equipment will be installed) or a change in the methods governing normal plant operation. In addition, the changes do not impose any new or different requirements. The changes do not alter assumptions made in the safety analysis. The proposed changes are consistent with the safety analysis assumptions and current plant operating practice.

Therefore, the proposed changes do not create the possibility of a new or different kind of accident from any accident previously evaluated.

3. Does the proposed amendment involve a significant reduction in a margin of safety?

Response: No.

The design, operation, testing methods, and acceptance criteria for systems, structures, and components (SSCs), specified in applicable codes and standards (or alternatives approved for use by the NRC) will continue to be met as described in the plant licensing basis (including the final safety analysis report and bases to TS), since these are not affected by changes to the surveillance frequencies. Similarly, there is no impact to safety analysis acceptance criteria as described in plant licensing basis. To evaluate a change in the relocated surveillance frequency, Exelon will perform a probabilistic risk evaluation using the guidance contained in NRC approved NEI 04-10, Rev. 1 in accordance with the TS SFCP. NEI 04-10, Rev. 1, methodology provides reasonable acceptance guidelines and methods for evaluating the risk increase of proposed changes to surveillance frequencies consistent with Regulatory Guide 1.177.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: J. Bradley Fewell, Senior Vice President, Regulatory Affairs, Nuclear, and General Counsel, Exelon Generation Company, LLC, 4300 Winfield Road, Warrenville, IL 60555.

NRC Branch Chief: Benjamin G. Beasley.

Exelon Generation Company LLC (), Docket Nos. STN 50-456 and STN 50-457, Braidwood Station, Units 1 and 2, Will County, Illinois

Docket Nos. STN 50-454 and STN 50-455, Byron Station, Units 1 and 2, Ogle County, Illinois

Date of amendment request: December 18, 2014. A publicly-available version is in ADAMS under Accession No. ML14352A204.

Description of amendment request: The proposed amendment would increase the voltage limit for the diesel generator (DG) full load rejection test specified by technical specification (TS) Surveillance Requirement (SR) 3.8.1.10. Additionally, the proposed amendment would add Note 3 to TS SR 3.8.1.10 for alignment with the Standard Technical Specifications documented in NUREG-1431, April 2012 (ADAMS Accession No. ML12100A222).

Basis for proposed no significant hazards consideration determination: As required by 10 CFR 50.91(a), the licensee has provided its analysis of the issue of no significant hazards consideration, which is presented below:

EGC [Exelon Generation Company] has evaluated the proposed change for Braidwood Station and Byron Station, using the criteria in 10 CFR 50.92, and has determined that the proposed change does not involve a significant hazards consideration. The following information is provided to support a finding of no significant hazards consideration.

1. Does the proposed change involve a significant increase in the probability or consequences of an accident previously evaluated?

Response: No.

The DGs design function is to mitigate an accident and there are no analyzed scenarios where the DGs are initiators of any previously evaluated accident. Since DGs do not initiate accidents, this change does not increase the probability of occurrence of a previously evaluated accident. The proposed change to the testing approach of the DGs is consistent with the original design of the DGs. The proposed change is in accordance with RG [Regulatory Guide] 1.9 Revision 3, and this change to the testing approach does not impact the DGs ability to mitigate accidents. The DGs will continue to operate within the parameters and conditions assumed within the accident analysis. This change does not result in an increase in the likelihood of malfunction of the DGs or their supported equipment. Since the DGs will continue to perform its required function, there is no increase in the consequences of previously evaluated accidents.

Therefore, the proposed change does not involve a significant increase in the probability or consequences of an accident previously evaluated.

2. Does the proposed change create the possibility of a new or different kind of accident from any accident previously evaluated?

Response: No.

The proposed amendment does not change the DGs operation or ability to perform its design function. The proposed change to TS SR 3.8.1.10 at increased voltage will ensure the DGs ability to perform at rated power factor while meeting its requirements. The change to TS SR 3.8.1.10 does not result in DG operation that would create a new failure mode of the DGs that could create a new initiator of an accident. This is because the DGs ability to perform its design function is maintained in the same manner as originally designed. The proposed change does not change the single failure capabilities of the electrical power system or create a potential for loss of power since the design operation of the DGs is maintained.

Therefore, the proposed change does not create the possibility of a new or different kind of accident from any accident previously evaluated.

3. Does the proposed change involve a significant reduction in a margin of safety?

Response: No.

The margin of safety is established through the design of the plant structures, systems, and components, the parameters within which the plant is operated, and the setpoints for the actuation of equipment relied upon to respond to an event. The proposed change does not modify the safety limits or setpoints at which protective actions are initiated. The proposed change increases the voltage limit for the DG full load rejection test which results in new test acceptance criterion that is more restrictive than the existing acceptance criteria. The proposed change ensures the availability and operability of safety-related DGs.

Therefore, the proposed change does not involve a significant reduction in a margin of safety.

Based on the above evaluation, EGC concludes that the proposed amendment presents no significant hazards consideration under the standards set forth in 10 CFR 50.92, paragraph (c), and accordingly, a finding of no significant hazards consideration is justified.

The NRC staff has reviewed the licensee's analysis and, based on this review, it appears that the three standards of 10 CFR 50.92(c) are satisfied. Therefore, the NRC staff proposes to determine that the requested amendments involve no significant hazards consideration.

Attorney for licensee: Bradley J. Fewell, Associate General Counsel, Exelon Nuclear, 4300 Winfield Road, Warrenville, IL 60555.

NRC Branch Chief: Travis L. Tate.

FirstEnergy Nuclear Operating Company, Docket No. 50-440, Perry Nuclear Power Plant (PNPP), Unit 1, Perry, Ohio

Date of amendment request: November 24, 2014. A publicly-available version is in ADAMS under Accession No. ML14328A665.

Description of amendment request: The proposed amendment is intended to revise the battery capacity testing surveillance requirements in the technical specifications to reflect test requirements when the battery is near end of life.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment does not change the design function of the Class 1 E divisional battery systems and does not change the way the plant is maintained or operated when performing battery surveillance testing. The proposed amendment does not affect any accident mitigating feature or increase the likelihood of malfunction for plant structures, systems and components.

The proposed amendment does not affect the operability requirements of the Class 1 E divisional battery systems. Verification of operating the plant within prescribed limits will continue to be performed, as currently required. Compliance with and continued verification of the prescribed limits support the capability of the Class 1 E divisional battery systems to perform their required design functions during all plant operating, accident, and station blackout conditions, consistent with the plant safety analyses.

The proposed amendment will not change any of the analyses associated with the PNPP Updated Safety Analysis Report Chapter 15 accidents because plant operation, plant structures, systems, components, accident initiators, and accident mitigation functions remain unchanged.

Therefore, the proposed amendment does not involve a significant increase in the probability or consequences of an accident previously evaluated.

2. Does the proposed amendment create the possibility of a new or different kind of accident from any accident previously evaluated?

Response: No.

The proposed amendment does not change the design function of the Class 1 E divisional battery systems, and does not change the way the plant is operated or maintained. The proposed amendment does not create a credible failure mechanism, malfunction or accident initiator not already considered in the design and licensing basis.

Therefore, the proposed amendment does not create the possibility of a new or different kind of accident from any accident previously evaluated.

3. Does the proposed amendment involve a significant reduction in a margin of safety?

Response: No.

Safety margins are applied to design and licensing basis functions and to the controlling values of parameters to account for various uncertainties and to avoid exceeding regulatory or licensing limits. The proposed amendment does not involve a physical change to the plant, does not change methods of plant operation within prescribed limits, or affect design and licensing basis functions or controlling values of parameters for plant systems, structures, and components.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Corporation, Mail Stop A-GO-15, 76 South Main Street, Akron, OH 44308.

NRC Branch Chief: Travis L. Tate.

Florida Power and Light Company, et al., Docket Nos. 50-335 and 50-389, St. Lucie Plant, Units 1 and 2, St. Lucie County, Florida

Date of amendment request: August 7, 2014 (ADAMS Accession No. ML14225A630).

Description of amendment request: The amendment would revise the Technical Specifications to add a short Allowed Outage Time to restore an inoperable system for conditions under which the existing specifications require a plant shutdown. The proposed amendment is consistent with an NRC-approved change identified as Technical Specifications Task Force (TSTF) Traveler TSTF-426, Revision 5, “Revise or Add Actions to Preclude Entry into LCO [Limiting Condition for Operation] 3.0.3—RITSTF [Risk-Informed TSTF] Initiatives 6b & 6c” (see 78 FR 32476, May 30, 2013). The Allowed Outage Time would be added to specifications governing the boron injection flow paths of the reactivity control systems, pressurizer heaters, containment spray trains, shield building ventilation systems, and control room emergency air cleanup systems.

Basis for proposed no significant hazards consideration determination: As required by 10 CFR 50.91(a), the licensee has provided its analysis of the issue of no significant hazards consideration, which is reproduced below:

1. Does the proposed change involve a significant increase in the probability or consequences of an accident previously evaluated?

Response: No.

The proposed change provides a short Allowed Outage Time to restore an inoperable system for conditions under which the existing Technical Specifications require a plant shutdown to begin within one hour in accordance with Limiting Condition for Operation (LCO) 3.0.3. Entering into Technical Specification Actions is not an initiator of any accident previously evaluated. As a result, the probability of an accident previously evaluated is not significantly increased. The consequences of any accident previously evaluated that may occur during the proposed Allowed Outage Times are no different from the consequences of the same accident during the existing one-hour allowance. As a result, the consequences of any accident previously evaluated are not significantly increased.

Therefore, the proposed change does not involve a significant increase in the probability or consequences of an accident previously evaluated.

2. Does the proposed change create the possibility of a new or different kind of accident from any accident previously evaluated?

Response: No.

No new or different accidents [would] result from utilizing the proposed change. The changes [to the TSs] do not involve a physical alteration of the plant (i.e., no new or different type of equipment will be installed) or a change in the methods governing normal plant operation. In addition, the changes do not impose any new or different requirements. The changes do not alter assumptions made in [any] safety analysis.

Therefore, the proposed change does not create the possibility of a new or different kind of accident from any previously evaluated.

3. Does the proposed change involve a significant reduction in a margin of safety?

Response: No.

The proposed change increases the time the plant may operate without the ability to perform an assumed safety function. The analyses in [the NRC-approved topical report] WCAP-16125-NP-A, “Justification for Risk-Informed Modifications to Selected Technical Specifications for Conditions Leading to Exigent Plant Shutdown,” Revision 2, August 2010, demonstrated that there is an acceptably small increase in risk due to a limited period of continued operation in these conditions and that this risk is balanced by avoiding the risks associated with a plant shutdown. As a result, the change to the margin of safety provided by requiring a plant shutdown within one hour is not significant.

Therefore, the proposed change does not involve a significant reduction in a margin of safety.

The NRC staff has reviewed the licensee's analysis and determines that the three standards of 10 CFR 50.92(c) are satisfied. Therefore, the NRC staff proposes to determine that the proposed amendment involves no significant hazards consideration.

Attorney for licensee: William S. Blair, Managing Attorney—Nuclear, Florida Power & Light Company, 700 Universe Blvd., MS LAW/JB, Juno Beach, FL 33408-0420.

NRC Branch Chief: Shana R. Helton.

Florida Power and Light Company, et al., Docket Nos. 50-335 and 50-389, St. Lucie Plant, Units 1 and 2, St. Lucie County, Florida

Date of amendment request: December 5, 2014 (ADAMS Accession No. ML14353A016).

Description of amendment request: The proposed amendment will modify the Technical Specification (TS) requirements related to Completion Times for Required Actions to provide the option to calculate longer, risk-informed Completion Times. The proposed amendment will also add a new program, the Risk Informed Completion Time Program, to TS section 6.0, “Administrative Controls.” The methodology for using the Risk Informed Completion Time Program is described in Nuclear Energy Institute topical report NEI 06-09, “Risk-Informed Technical Specifications Initiative 4b, Risk-Managed Technical Specifications (RMTS) Guidelines,” Revision 0-A, which was approved by the NRC on May 17, 2007. The proposed amendment is consistent with the NRC-approved industry-proposed Technical Specification Task Force-505, Revision 1, “Provide Risk-Informed Extended Completion Times—RITSTF Initiative 4b.”

Basis for proposed no significant hazards consideration determination: As required by 10 CFR 50.91(a), the licensee has provided its analysis of the issue of no significant hazards consideration, which is reproduced below:

1. Does the proposed change involve a significant increase in the probability or consequences of an accident previously evaluated?

Response: No.

The proposed change permits the extension of Completion Times provided the associated risk is assessed and managed in accordance with the NRC[-]approved Risk Informed Completion Time Program. The proposed change does not involve a significant increase in the probability of an accident previously evaluated because the change involves no change to the plant or its modes of operation. The proposed change does not increase the consequences of an accident because the design-basis mitigation function of the affected systems is not changed and the consequences of an accident [occurring] during the extended Completion Time are no different from those [occurring] during the existing Completion Time.

2. Does the proposed change create the possibility of a new or different kind of accident from any accident previously evaluated?

Response: No.

The proposed change does not change the design, configuration, or method of operation of the plant. The proposed change does not involve a physical alteration of the plant (no new or different kind of equipment will be installed).

Therefore, the proposed change does not create the possibility of a new or different kind of accident from any accident previously evaluated.

3. Does the proposed change involve a significant reduction in a margin of safety?

Response: No.

The proposed change permits the extension of Completion Times provided risk is assessed and managed in accordance with the NRC[-]approved Risk Informed Completion Time Program. The proposed change implements a risk-informed configuration management program to assure that adequate margins of safety are maintained. Application of these new specifications and the configuration management program considers cumulative effects of multiple systems or components being out of service and does so more effectively than the current TS.

Therefore, the proposed change does not involve a significant reduction in a margin of safety.

The NRC staff has reviewed the licensee's analysis and determines that the three standards of 10 CFR 50.92(c) are satisfied. Therefore, the NRC staff proposes to determine that the proposed amendment involves no significant hazards consideration.

Attorney for licensee: William S. Blair, Managing Attorney—Nuclear, Florida Power & Light Company, 700 Universe Blvd., MS LAW/JB, Juno Beach, FL 33408-0420.

NRC Branch Chief: Shana R. Helton.

Indiana Michigan Power Company, Docket Nos. 50-315 and 50-316, Donald C. Cook Nuclear Plant, Units 1 and 2, Berrien County, Michigan

Date of amendment request: December 17, 2014. A publicly-available version is in ADAMS under Accession No. ML14356A022.

Description of amendment request: The proposed amendment would amend the Appendix A technical specifications to Facility Operating Licenses DPR-58 and DPR-74, to modify the notes to TS 3.8.1, “AC Sources—Operating,” to allow surveillance testing of the onsite standby emergency diesel generators (DGs) during modes in which it is currently prohibited. Specifically, the license amendment request proposes removing the mode restrictions for the following Surveillance Requirements (SRs): 3.8.1.10 (DG single largest load rejection test), 3.8.1.11 (DG full load rejection test), and 3.8.1.15 (DG endurance run).

Basis for proposed no significant hazards consideration determination: As required by 10 CFR 50.91(a), the licensee has provided its analysis of the issue of no significant hazards consideration, which is presented below:

1. Does the proposed change involve a significant increase in the probability of occurrence or consequences of an accident previously evaluated?

Response: No.

The design of plant equipment is not being modified by the proposed changes. In addition, the DGs and their associated emergency loads are accident mitigating features. As such, testing of the DGs themselves is not associated with any potential accident-initiating mechanism.

Therefore, there will be no significant impact on any accident probabilities by the approval of the requested changes.

The changes include an increase in the time that a DG under test will be paralleled to the grid while the unit is in Modes 1 or 2. As such, the ability of the tested DG to respond to a DBA [design-basis accident] could be minimally adversely impacted by the proposed changes. However, the impacts are not considered significant based, in part, on the ability of the remaining DG to mitigate a DBA or provide safe shutdown. Experience shows that testing for these SRs typically does not perturb the electrical distribution system. In addition, operating experience supports the conclusion that the proposed changes do not involve any significant increases in the likelihood of a safety-related bus blackout or damage to plant loads.

Therefore, the proposed change does not involve a significant increase in the probability or consequences of an accident previously evaluated.

2. Does the proposed change create the possibility of a new or different kind of accident from any accident previously evaluated?

Response: No.

The capability to synchronize a DG to the offsite source (via the associated plant bus) and test the DG in such a configuration is a design feature of the DGs, including the test mode override in response to a safety injection signal. Paralleling the DG for longer periods of time during plant operation may slightly increase the probability of incurring an adverse effect from the offsite source, but this increase in probability is judged to be still quite small and such a possibility is not a new or previously unrecognized consideration.

The proposed change does not introduce a new mode of plant operation and does not involve physical modification to the plant. The change does not introduce new accident initiators or impact assumptions made in the safety analysis.

Therefore, the proposed change does not create the possibility of a new or different kind of accident from any previously evaluated.

3. Does the proposed change involve a significant reduction in a margin of safety?

Response: No.

The proposed changes do not exceed or alter a design basis or safety limit, so there is no significant reduction in the margin of safety. The margin of safety is related to the confidence in the ability of the fission product barriers to perform their design functions during and following an accident situation. These barriers include the fuel cladding, the reactor coolant system, and the containment system. The proposed changes do not directly affect these barriers, nor do they involve any significantly adverse impact on the DGs which serve to support these barriers in the event of an accident concurrent with a LOOP [loss of offsight power]. The proposed changes to the testing requirements for the plant DGs do not affect the OPERABILITY requirements for the DGs, as verification of such OPERABILITY will continue to be performed as required (except during different allowed modes). The changes have an insignificant impact on DG availability, as the DGs remain available to perform their required function of providing emergency power to plant equipment that supports or constitutes the fission product barriers. Only one DG is to be tested at a time, so that the remaining DG will be available to safety shut down the plant if required. Consequently, performance of the fission product barriers will not be impacted by implementation of the proposed amendment.

In addition, the proposed changes involve no changes to setpoints or limits established or assumed by the accident analysis.

Therefore, the proposed change does not involve a significant reduction in a margin of safety.

The NRC staff has reviewed the licensee's analysis and, based on this review, it appears that the three standards of 10 CFR 50.92(c) are satisfied. Therefore, the NRC staff proposes to determine that the amendment requests involve no significant hazards consideration.

Attorney for licensee: Robert B. Haemer, Senior Nuclear Counsel, One Cook Place, Bridgman, MI 49106.

NRC Branch Chief: David L. Pelton.

Nebraska Public Power District, Docket No. 50-298, Cooper Nuclear Station, Nemaha County, Nebraska

Date of amendment request: January 15, 2015. A publicly-available version is in ADAMS under Accession No. ML15021A127.

Description of amendment request: The proposed amendment would revise the Technical Specifications (TSs) to add a limiting condition for operation, applicability, required actions, completion times, and surveillance requirements for the residual heat removal (RHR) containment spray system consistent with the guidance in NUREG-1433, Revision 4, “Standard Technical Specifications General Electric BWR [Boiling Water Reactor]/4 Plants,” dated April 2012 (ADAMS Accession No. ML12104A192). New TS section 3.6.1.9, “Residual Heat Removal (RHR) Containment Spray,” would be added to reflect the reliance on containment spray to maintain the drywell within design temperature limits during a small steam line break. In addition, the “Drywell Pressure—High” function that serves as an interlock permissive to allow RHR containment spray mode alignment would be relocated from the Technical Requirements Manual (TRM) to TS 3.3.5.1, “Emergency Core Cooling System (ECCS) Instrumentation.”

The requirements for the RHR containment spray function and “Drywell Pressure—High” function are currently contained in TRM sections T3.6.1, “RHR Containment Spray,” and T3.3.2, “ECCS and Reactor Core Isolation Cooling Instrumentation,” respectively. These TRM sections established specific guidance and criteria related to the applicability, operation, and testing for the RHR containment spray system. The TRM requirements for the RHR containment spray system would be removed once the TS requirements are approved.

Basis for proposed no significant hazards consideration determination: As required by 10 CFR 50.91(a), the licensee has provided its analysis of the issue of no significant hazards consideration, which is presented below:

1. Do the proposed changes involve a significant increase in the probability or consequences of an accident previously evaluated?

Response: No.

The proposed change to establish the RHR Containment Spray requirement in TS does not introduce new equipment or new equipment operating modes, nor do the proposed changes alter existing system relationships. The proposed change does not affect plant operation, design function, or any analysis that verifies the capability of a structure, system, or component (SSC) to perform a design function. There are no changes or modifications to the RHR system. The RHR system will continue to function as designed in all modes of operation, including the Containment Spray function. There are no significant changes to procedures or training related to the operation of the Containment Spray function. Primary containment integrity is not adversely impacted and radiological consequences from the accidents analyzed in the Updated Safety Analysis Report (USAR) are not increased. Containment parameters are not increased beyond those previously evaluated and the potential for failure of the containment is not increased.

There is no adverse impact on systems designed to mitigate the consequences of accidents. The proposed change does not increase system or component pressures, temperatures, and flowrates for systems designed to prevent accidents or mitigate the consequences of an accident. Since these conditions do not change, the likelihood of failure of SSC is not increased.

Therefore, the proposed change does not involve a significant increase in the probability or consequences of an accident previously evaluated.

2. Do the proposed changes create the possibility of a new or different kind of accident from any accident previously evaluated?

Response: No.

The proposed change to establish the RHR Containment Spray requirement in TS does not alter the design function or operation of any SSC. The Containment system will continue to function as designed in all modes of operation, including RHR Containment Spray function. There is no new system component being installed, no new construction, and no performance of a new test or maintenance function. The proposed TS change does not create the possibility of a new credible failure mechanism or malfunction. The proposed change does not modify the design function or operation of any SSC. The proposed change does not introduce new accident initiators. Primary containment integrity is not adversely impacted and radiological consequences from the accident analyzed in the USAR are not increased. Containment parameters are not increased beyond those previously evaluated and the potential for failure of the containment is not increased. The proposed change does not increase system or component pressures, temperatures, and flowrates for systems designed to prevent accidents or mitigate the consequences of an accident. Since these conditions do not change, the likelihood of failure of an SSC is not increased.

Therefore, the proposed change does not create the possibility of a new or different kind of accident from any previously evaluated.

3. Do the proposed changes involve a significant reduction in a margin of safety?

Response: No.

The proposed change does not increase system or component pressures, temperatures, and flowrates for systems designed to prevent accidents or mitigate the consequences of an accident. Containment parameters are not increased beyond those previously evaluated and the potential for failure of the containment is not increased.

The proposed change to establish the RHR Containment Spray requirement in TS is needed in order to reflect the current safety function of Containment Spray related to the small steam line break accident. The proposed change does not exceed or alter a design basis or a safety limit parameter that is described in the USAR.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. John C. McClure, Nebraska Public Power District, Post Office Box 499, Columbus, NE 68602-0499.

Acting NRC Branch Chief: Eric R. Oesterle.

Northern States Power Company—Minnesota, Docket Nos. 50-282 and 50-306, Prairie Island Nuclear Generating Plant, Units 1 and 2, Goodhue County, Minnesota

Date of amendment request: February 20, 2013, as supplemented by letters dated June 25, 2013; September 15, 2014; and February 26, 2015. Publicly-available versions are in ADAMS under Accession Nos. ML13053A199, ML13178A024, ML14258A089, and ML15057A480, respectively.

Brief description of amendment request: The proposed amendments would remove the technical specification (TS) 3.5.3 “ECCS [Emergency Core Cooling System]-Shutdown,” Limiting Condition for Operation (LCO) Note 1 to eliminate information to the plant operators that could cause non-conservative operation, and would revise the LCO Applicability statement to apply to all of Mode 4.

Basis for proposed no significant hazards consideration determination: As required by 10 CFR 50.91(a), the licensee provided its analysis of the issue of no significant hazards consideration, which the Commission previously issued in the Federal Register on August 20, 2013 (78 FR 51229). The licensee revised its analysis of the issue of no significant hazards consideration, which is presented below, to consider expansion of the scope of the amendments by revising the LCO Applicability statement to include all of Mode 4.

1. Does the proposed amendment involve a significant increase in the probability or consequences of an accident previously evaluated?

Response: No.

This license amendment request proposes to revise the Technical Specification for ECCS operability requirements in Mode 4 by removing the LCO Note which allows the RHR [residual heat removal] subsystem to be considered operable for ECCS when aligned for shutdown cooling and revising the Applicability statement to include all of Mode 4. These changes will require one train of RHR to be aligned for ECCS operation throughout Mode 4.

The proposed changes do not affect the ECCS and RHR subsystem design, the interfaces between the RHR subsystem and other plant systems' operating functions, or the reliability of the RHR subsystem. The proposed changes do not change or impact the initiators and assumptions of the analyzed accidents. Therefore, the ECCS and RHR subsystems will be capable of performing their accident mitigation functions, and the proposed TS changes do not involve an increase in the probability of an accident.

The proposed TS changes will require that one train of RHR is aligned for ECCS operation during Mode 4 which assures that one train of ECCS is operable to mitigate the consequences of a loss of coolant accident. Thus the proposed TS changes do not involve a significant increase in the consequences of an accident.

Therefore, the proposed Technical Specification changes do not involve a significant increase in the probability or consequences of an accident previously evaluated.

2. Does the proposed amendment create the possibility of a new or different kind of accident from any accident previously evaluated?

Response: No.

This license amendment request proposes to revise the Technical Specification for ECCS operability requirements in Mode 4 by removing the LCO Note which allows the RHR subsystem to be considered operable for ECCS when aligned for shutdown cooling and revising the Applicability statement to include all of Mode 4. These changes will require one train of RHR to be aligned for ECCS operation throughout Mode 4.

The proposed Technical Specification changes involve changes to when system trains are operated, but they do not change any system functions or maintenance activities. The changes do not involve physical alteration of the plant, that is, no new or different type of equipment will be installed. The changes do not alter assumptions made in the safety analyses but ensure that one train of ECCS is operable to mitigate the consequences of a loss of coolant accident. These changes do not create new failure modes or mechanisms which are not identifiable during testing and no new accident precursors are generated.

Therefore, the proposed Technical Specification changes do not create the possibility of a new or different kind of accident from any previously evaluated.

3. Does the proposed amendment involve a significant reduction in a margin of safety?

Response: No.

This license amendment request proposes to revise the Technical Specification [TS] for ECCS operability requirements in Mode 4 by removing the LCO Note which allows the RHR subsystem to be considered operable for ECCS when aligned for shutdown cooling and revising the Applicability statement to include all of Mode 4. These changes will require one train of RHR to be aligned for ECCS operation throughout Mode 4.

This license amendment proposes Technical Specification changes which assure that the ECCS—Shutdown TS LCO requirements are met if a Mode 4 LOCA were to occur. With these changes, other TS requirements for shutdown cooling in Mode 4 will continue to be met. Based on review of plant operating experience, there is no discernable change in cooldown rates when utilizing a single train of RHR for shutdown cooling. Thus, no margin of safety is reduced as part of this change.

Therefore, the proposed Technical Specification changes do not involve a significant reduction in a margin of safety.

The NRC staff has reviewed the licensee's analysis and, based on this review, it appears that the three standards of 10 CFR 50.92(c) are satisfied. Therefore, the NRC staff proposes to determine that the amendment requests involve no significant hazards consideration.

Attorney for licensee: Peter M. Glass, Assistant General Counsel, Xcel Energy Services, Inc., 414 Nicollet Mall, Minneapolis, MN 55401.

NRC Branch Chief: David L. Pelton.

Southern Nuclear Operating Company, Inc. (SNC), Docket Nos. 50-321 and 50-366, Edwin I. Hatch Nuclear Plant, Units 1 and 2, Appling County, GA

Date of amendment request: January 13, 2015. A publicly-available version is in ADAMS under Accession No. ML15014A411.

Description of amendment request: The licensee proposes to adopt Technical Specification Task Force (TSTF) change number 523, revision 2, “Generic Letter 2008-01, Managing Gas Accumulation,” for the Hatch Nuclear Plant, Unit 1 and 2, technical specifications (TS). The proposed change would revise or add Surveillance Requirements to verify that the system locations susceptible to gas accumulation are sufficiently filled with water and to provide allowances which permit performance of the verification.

Basis for proposed no significant hazards consideration determination: As required by 10 CFR 50.91(a), the licensee has provided its analysis of the issue of no significant hazards consideration, which is presented below:

1. Does the proposed change involve a significant increase in the probability or consequences of an accident previously evaluated?

Response: No.

The proposed change revises or adds Surveillance Requirement(s) (SRs) that require verification that the Emergency Core Cooling System (ECCS), the Residual Heat Removal (RHR) System, the RHR Shutdown Cooling (SDC) System, the Containment Spray (CS) System, and the Reactor Core Isolation Cooling (RCIC) System are not rendered inoperable due to accumulated gas and to provide allowances which permit performance of the revised verification. Gas accumulation in the subject systems is not an initiator of any accident previously evaluated. As a result, the probability of any accident previously evaluated is not significantly increased. The proposed SRs ensure that the subject systems continue to be capable to perform their assumed safety function and are not rendered inoperable due to gas accumulation. Thus, the consequences of any accident previously evaluated are not significantly increased.

Therefore, the proposed change does not involve a significant increase in the probability or consequences of an accident previously evaluated.

2. Does the proposed change create the possibility of a new or different kind of accident from any accident previously evaluated?

Response: No.

The proposed change revises or adds SRs that require verification that the ECCS, the RHR, the RHR SDC System, the CS System, and the RCIC System are not rendered inoperable due to accumulated gas and to provide allowances which permit performance of the revised verification. The proposed change does not involve a physical alteration of the plant (i.e., no new or different type of equipment will be installed) or a change in the methods governing normal plant operation. In addition, the proposed change does not impose any new or different requirements that could initiate an accident. The proposed change does not alter assumptions made in the safety analysis and is consistent with the safety analysis assumptions.

Therefore, the proposed change does not create the possibility of a new or different kind of accident from any accident previously evaluated.

3. Does the proposed change involve a significant reduction in a margin of safety?

Response: No.

The proposed change revises or adds SRs that require verification that the ECCS, the RHR, RHR SDC System, the CS System, and the RCIC System are not rendered inoperable due to accumulated gas and to provide allowances which permit performance of the revised verification. The proposed change adds new requirements to manage gas accumulation in order to ensure the subject systems are capable of performing their assumed safety functions. The proposed SRs are more comprehensive than the current SRs and will ensure that the assumptions of the safety analysis are protected. The proposed change does not adversely affect any current plant safety margins or the reliability of the equipment assumed in the safety analysis. Therefore, there are no changes being made to any safety analysis assumptions, safety limits or limiting safety system settings that would adversely affect plant safety as a result of the proposed change.

Therefore, the proposed change does not involve a significant reduction in a margin of safety.

Based on the above, SNC concludes that the proposed change presents no significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, 40 Inverness Center Parkway, Birmingham, AL 35201.

NRC Branch Chief: Robert J. Pascarelli.

South Carolina Electric and Gas Company, Docket Nos.: 52-027 and 52-028, Virgil C. Summer Nuclear Station, Units 2 and 3, Fairfield County, South Carolina

Date of amendment request: January 27, 2015. A publicly-available version is in ADAMS under Accession No. ML15028A537.

Description of amendment request: The proposed change, if approved, would revise, in part, the description and scope of human factors engineering (HFE) operational sequence analysis (OSA) task and delete a reference to document WCAP-15847, which are both identified as Tier 2* information in the Updated Final Safety Analysis Report (UFSAR).

Basis for proposed no significant hazards consideration determination: As required by 10 CFR 50.91(a), the licensee has provided its analysis of the issue of no significant hazards consideration, which is presented below:

1. Does the proposed amendment involve a significant increase in the probability or consequences of an accident previously evaluated?

Response: No.

The proposed deletion of WCAP-15847 removes obsolete and superseded procedures from the licensing basis. The amendment of the operational sequence analysis (OSA) task alters the automatic depressurization system (ADS) testing from Mode 1 to Mode 5. The proposed changes to the procedures do not involve any accident initiating component/system failure or event, and the change to the ADS testing mode helps prevent accidents that would occur if the tests were performed in Mode 1. Thus, the probabilities of the accidents previously evaluated are not affected. The affected procedures and requirements do not adversely affect or interact with safety-related equipment or a radioactive material barrier, and this activity does not involve the containment of radioactive material. Thus, the proposed changes would not affect any safety-related accident mitigating function. The radioactive material source terms and release paths used in the safety analyses are unchanged, thus the radiological releases in the Updated Final Safety Analysis Report accident analyses are not affected.

Therefore, the proposed amendment does not involve a significant increase in the probability or consequences of an accident previously evaluated.

2. Does the proposed amendment create the possibility of a new or different kind of accident from any accident previously evaluated?

Response: No.

Removing WCAP-15847 from the UFSAR and amending the OSA task regarding ADS valve testing does not adversely affect the design or operation of safety-related equipment or equipment whose failure could initiate an accident other than what is already described in the licensing basis. These changes do not adversely affect safety-related equipment or fission product barriers. No safety analysis or design basis acceptance limit/criterion is challenged or exceeded by the requested change.

Therefore, the proposed amendment does not create the possibility of a new or different kind of accident from any accident previously evaluated.

3. Does the proposed amendment involve a significant reduction in a margin of safety?

Response: No.

The proposed changes to remove WCAP-15847 from the UFSAR and amend the OSA task do not adversely affect any safety-related equipment, design code compliance, design function, design analysis, safety analysis input or result, or design/safety margin because NQA-1 requirements are maintained in other Westinghouse procedures and testing of the ADS valves is still performed. No safety analysis or design basis acceptance limit/criterion is challenged or exceeded by the proposed changes, thus no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW, Washington, DC 20004-2514.

NRC Branch Chief: Lawrence J. Burkhart.

Southern Nuclear Operating Company, Inc., Docket Nos. 52-025 and 52-026, Vogtle Electric Generating Plant, Units 3 and 4, Burke County, Georgia

Date of amendment request: January 30, 2015. A publicly-available version is in ADAMS under Accession No. ML15030A505.

Description of amendment request: The proposed change would amend Combined License Nos. NPF-91 and NPF-92 for the Vogtle Electric Generating Plant (VEGP) Units 3 and 4. The requested amendment proposes changes to Tier 2* information contained within the Human Factors Engineering Design Verification, Task Support Verification and Integrated System Validation (ISV) plans. These documents are incorporated by reference into the VEGP Units 3 and 4 Updated Final Safety Analysis Report, and will additionally require changes to be made to affected Tier 2 information.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment includes changes to Integrated System Validation (ISV) activities, which are performed on the AP1000 plant simulator to validate the adequacy of the AP1000 human system interface design and confirm that it meets human factors engineering principles. The proposed changes involve administrative details related to performance of the ISV, and no plant hardware or equipment is affected whose failure could initiate an accident, or that interfaces with a component that could initiate an accident, or that contains radioactive material. Therefore, these changes have no effect on any accident initiator in the Updated Final Safety Analysis Report (UFSAR), nor do they affect the radioactive material releases in the UFSAR accident analysis.

Therefore, the proposed amendment does not involve an increase in the probability or consequences of an accident previously evaluated.

2. Does the proposed amendment create the possibility of a new or different kind of accident from any accident previously evaluated?

Response: No.

The proposed amendment includes changes to ISV activities, which are performed on the AP1000 plant simulator to validate the adequacy of the AP1000 human system interface design and confirm that it meets human factors engineering principles. The proposed changes involve administrative details related to performance of the ISV, and no plant hardware or equipment is affected whose failure could initiate an accident, or that interfaces with a component that could initiate an accident, or that contains radioactive material. Although the ISV may identify a need to initiate changes to add, modify, or remove plant structures, systems, or components, these changes will not be made directly as part of the ISV.

Therefore, the proposed amendment does not create the possibility of a new or different kind of accident from any accident previously evaluated.

3. Does the proposed amendment involve a significant reduction in a margin of safety?

Response: No.

The proposed amendment includes changes to ISV activities, which are performed on the AP1000 plant simulator to validate the adequacy of the AP1000 human system interface design and confirm that it meets human factors engineering principles. The proposed changes involve administrative details related to performance of the ISV, and do not affect any safety-related equipment, design code compliance, design function, design analysis, safety analysis input or result, or design/safety margin. No safety analysis or design basis acceptance limit/criterion is challenged or exceeded by the proposed changes, thus no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, AL 35203-2015.

NRC Branch Chief: Lawrence J. Burkhart.

Southern Nuclear Operating Company, Inc., Docket Nos. 50-424 and 50-425, Vogtle Electric Generating Plant, Units 1 and 2, Burke County, Georgia

Date of amendment request: September 13, 2012, as supplemented August 2, 2013, July 3, July 17, November 11, and December 12, 2014. Publicly-available versions are in ADAMS under Accession Nos. ML12258A055, ML13217A072, ML14189A554, ML14198A574, ML14315A051 and ML14346A643, respectively.

Description of amendment request: The proposed amendment would modify certain Technical Specification (TS) requirements related to Completion Times for Required Actions to provide the option to calculate a longer, risk-informed Completion Time. The allowance will be described in a new program, “Risk Informed Completion Time Program (RICT),” to be approved by NRC and to be added to Chapter 5, “Administrative Controls,” of the Technical Specifications. The methodology for using the RICT Program is described in an industry document NEI 06-09, “Risk-Informed Technical Specifications Initiative 4b, Risk-Managed Technical Specifications (RMTS) Guidelines,” which was approved by the Nuclear Regulatory Commission (NRC) on May 17, 2007. Adherence to NEI 06-09 is required by the proposed RICT Program. The proposed amendment is also consistent with the methodologies presented in an industry initiative identified as TSTF-505, Revision 1, “Provide Risk-Informed Extended Completion Times—RITSTF Initiative 4b.” Although the proposed amendment is consistent with TSTF-505, the licensee is not proposing adoption of TSTF-505 with this proposed amendment; the proposed amendment is a site-specific action.

Basis for proposed no significant hazards consideration determination: As required by 10 CFR 50.91(a), the licensee has provided its analysis of the issue of no significant hazards consideration, which is presented below:

1. Does the proposed change involve a significant increase in the probability or consequences of an accident previously evaluated?

Response: No.

The proposed change permits the extension of Completion Times provided risk is assessed and managed within the Risk Informed Completion Time Program. The proposed change does not involve a significant increase in the probability of an accident previously evaluated because the changes involve no change to the plant or its modes of operation. This proposed change does not increase the consequences of an accident because the design-basis mitigation function of the affected systems is not changed and the consequences of an accident during the extended Completion Time are no different from those during the existing Completion Time.

Therefore, the proposed change does not involve a significant increase in the probability or consequences of an accident previously evaluated.

2. Does the proposed change create the possibility of a new or different kind of accident from any accident previously evaluated?

Response: No.

The proposed change does not change the design, configuration, or method of operation of the plant. The proposed change does not involve a physical alteration of the plant (no new or different kind of equipment will be installed).

Therefore, the proposed changes do not create the possibility of a new or different kind of accident from any accident previously evaluated.

3. Does the proposed change involve a significant reduction in a margin of safety[?]

Response: No.

The proposed change permits the extension of Completion Times provided risk is assessed and managed within the Risk Informed Completion Time Program. The proposed change implements a risk-informed configuration management program to assure that adequate margins of safety are maintained. Application of these new specifications and the configuration management program considers cumulative effects of multiple systems or components being out of service and does so more effectively than the current TS.

Therefore, the proposed change does not involve a significant reduction in a margin of safety.

The NRC staff has reviewed the licensee's analysis and, based on this review, it appears that the three standards of 10 CFR 50.92(c) are satisfied. Therefore, the NRC staff proposes to determine that the requested amendment involve no significant hazards consideration.

Attorney for licensee: Jennifer M. Buettner, Associate General Counsel, Southern Nuclear Operating Company, 40 Inverness Center Parkway, Birmingham, AL 35242.

NRC Branch Chief: Robert J. Pascarelli.

Tennessee Valley Authority (TVA), Docket Nos. 50-327 and 50-328, Sequoyah Nuclear Plant (SQN), Units 1 and 2, Hamilton County, Tennessee

Date of amendment request: December 2, 2014. A publicly-available version is in ADAMS under Accession No. ML14339A539.

Description of amendment request: The amendments would revise Technical Specification (TS) 6.8.4.h, “Containment Leakage Rate Testing Program,” by adopting Nuclear Energy Institute (NEI) 94-01, Revision 3-A, “Industry Guideline for Implementing Performance-Based Option of 10 CFR part 50, Appendix J,” as the implementation document for the performance-based Option B of 10 CFR part 50, Appendix J. The proposed changes would permanently extend the Type A containment integrated leak rate testing (ILRT) interval from 10 years to 15 years, and the Type C local leakage rate testing (LLRT) intervals from 60 months to 75 months.

Basis for proposed no significant hazards consideration determination: As required by 10 CFR 50.91(a), the licensee has provided its analysis of the issue of no significant hazards consideration, which is presented below.

1. Does the proposed amendment involve a significant increase in the probability or consequence of an accident previously evaluated?

Response: No.

The proposed revision to TS 6.8.4.h changes the testing period to a permanent 15-year interval for Type A testing (10 CFR part 50, Appendix J, Option B, ILRT) and a 75-month interval for Type C testing (10 CFR part 50, Appendix J, Option B, LLRT). The current type A test interval of 10 years would be extended to 15 years from the last Type A test. The proposed extension to Type A testing does not involve a significant increase in the consequences of an accident because research documented in NUREG-1493, “Performance-Based Containment System Leakage Testing Requirements [sic] [Performance-Based Containment Leak-Test Program],” September 1995, has found that, generically, very few potential containment leakage paths are not identified by Type B and C tests. NUREG-1493 concluded that reducing the Type A testing frequency to one per twenty years was found to lead to an imperceptible increase in risk. A high degree of assurance is provided through testing and inspection that the containment will not degrade in a manner detectable only by Type A testing. The last Type A test (performed October 27, 2007 for SQN, Unit 1 and December 30, 2006 for SQN, Unit 2) shows leakage to be below acceptance criteria, indicating a very leak tight containment. Inspections required by the ASME [American Society of Mechanical Engineers] Code section Xl (subsections IWE and IWL) and Maintenance Rule monitoring (10 CFR 50.65, “Requirements for Monitoring the Effectiveness of Maintenance at Nuclear Power Plants”), are performed in order to identify indications of containment degradation that could affect that leak tightness. Types B and C testing required by TSs will identify any containment opening such as valves that would otherwise be detected by the Type A tests. These factors show that a Type A test interval extension will not represent a significant increase in the consequences of an accident.

The proposed amendment involves changes to the SQN, Units 1 and 2, 10 CFR 50 Appendix J Testing Program Plan. The proposed amendment does not involve a physical change to the plant or a change in the manner in which the units are operated or controlled. The primary containment function is to provide an essentially leak tight barrier against the uncontrolled release of radioactivity to the environment for postulated accidents. As such, the containment itself and the testing requirements to periodically demonstrate the integrity of the containment exist to ensure the plant's ability to mitigate the consequences of an accident, and do not involve any accident precursors or initiators.

Therefore, the probability of occurrence of an accident previously evaluated is not significantly increased by the proposed amendment.

The proposed amendment adopts the NRC-accepted guidelines of NEI 94-01, Revision 3-A, for development of the SQN, Units 1 and 2, performance-based leakage testing program. Implementation of these guidelines continues to provide adequate assurance that during design basis accidents, the primary containment and its components will limit leakage rates to less than the values assumed in the plant safety analyses. The potential consequences of extending the ILRT interval from 10 years to 15 years have been evaluated by analyzing the resulting changes in risk. The increase in risk in terms of person-rem per year resulting from design basis accidents was estimated to be very small, and the increase in the LERF [large early release frequency] resulting from the proposed change was determined to be within the guidelines published in NRC RG [Regulatory Guide] 1.174. Additionally, the proposed change maintains defense-in-depth by preserving a reasonable balance among prevention of core damage, prevention of containment failure, and consequence mitigation. TVA has determined that the increase in CCFP [conditional containment failure probability] due to the proposed change would be very small.

Based on the above discussions, the proposed changes do not involve an increase in the probability or consequences of an accident previously evaluated.

2. Does the proposed amendment create the possibility of a new or different kind of accident from any accident previously evaluated?

Response: No.

The proposed revision to TS 6.8.4.h changes the testing period to a permanent 15-year interval for Type A testing (10 CFR part 50, Appendix J, Option B, ILRT) and a 75-month interval for Type C testing (10 CFR part 50, Appendix J, Option B, LLRT). The current test interval of 10 years, based on past performance, would be extended to 15 years from the last Type A test (performed October 27, 2007 for SQN, Unit 1 and December 30, 2006 for SQN, Unit 2). The proposed extension to Type A and Type C test intervals does not create the possibility of a new or different type of accident because there are no physical changes being made to the plant and there are no changes to the operation of the plant that could introduce a new failure mode creating an accident or affecting the mitigation of an accident.

Therefore, the proposed changes do not create the possibility of a new or different kind of accident from any accident previously evaluated.

3. Does the proposed amendment involve a significant reduction in a margin of safety?

Response: No.

The proposed revision to TS 6.8.4.h changes the testing period to a permanent 15-year interval for Type A testing (10 CFR part 50, Appendix J, Option B, ILRT) and a 75-month interval for Type C testing (10 CFR part 50, Appendix J, Option B, LLRT). The current test interval of 10 years, based on past performance, would be extended to 15 years from the last Type A test (performed October 27, 2007 for SQN, Unit 1 and December 30, 2006 for SQN, Unit 2). The proposed extension to Type A testing will not significantly reduce the margin of safety. NUREG-1493, “Performance-Based Containment System Leakage Testing Requirements [sic] [Performance-Based Containment Leak-Test Program],” September 1995, generic study of the effects of extending containment leakage testing, found that a 20-year extension to Type A leakage testing resulted in an imperceptible increase in risk to the public. NUREG-1493 found that, generically, the design containment leakage rate contributes about 0.1% to the individual risk and that the decrease in Type A testing frequency would have a minimal effect on this risk since 95% of the potential leakage paths are detected by Type C testing. Regular inspections required by the ASME Code section Xl (subsections IWE and IWL) and maintenance rule monitoring (10 CFR 50.65, “Requirements for Monitoring the Effectiveness of Maintenance at Nuclear Power Plants”) will further reduce the risk of a containment leakage path going undetected.

The proposed amendment adopts the NRC-accepted guidelines of NEI 94-01, Revision 3-A, for development of the SQN, Units 1 and 2, performance-based leakage testing program, and establishes a 15-year interval for the performance of the primary containment ILRT and a 75-month interval for Type C testing. The amendment does not alter the manner in which safety limits, limiting safety system setpoints, or limiting conditions for operation are determined. The specific requirements and conditions of the 10 CFR part 50, Appendix J Testing Program Plan, as defined in the TS, ensure that the degree of primary containment structural integrity and leak-tightness that is considered in the plant safety analyses is maintained. The overall containment leakage rate limit specified by the TS is maintained, and the Type A, B, and C containment leakage tests will continue to be performed at the frequencies established in accordance with the NRC-accepted guidelines of NEI 94-01, Revision 3-A.

Containment inspections performed in accordance with other plant programs serve to provide a high degree of assurance that the containment will not degrade in a manner that is detectable only by an ILRT. This ensures that evidence of containment structural degradation is identified in a timely manner. Furthermore, a risk assessment using the current SQN, Units 1 and 2, PRA model concluded that extending the ILRT test interval from 10 years to 15 years results in a very small change to the SQN, Units 1 and 2, risk profile.

Accordingly, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, 6A West Tower, Knoxville, TN 37902.

NRC Branch Chief: Shana R. Helton.

III. Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Entergy Nuclear Operations, Inc., Docket No. 50-247, Indian Point Nuclear Generating Unit 2, Westchester County, New York

Date of amendment request: February 12, 2015. A publicly-available version is in ADAMS under Accession No. ML15044A471.

Brief description of amendment request: The proposed amendment would allow a revision to the acceptance criteria for the Surveillance Requirement 3.1.4.2 for Control Rod G-3. During the last two performances of this Surveillance on September 18, 2014, and December 11, 2014, Control Rod G-3 misalignment occurred with Shutdown Bank B group movement as displayed by Individual Rod Position Indication and Plant Instrument Computer System. The proposed change is to defer subsequent testing of the Control Rod G-3 until repaired during the next refuel outage (March 2016) or forced outage long enough to repair the Control Rod.

Date of publication of individual notice in Federal Register: March 2, 2015 (80 FR 11236).

Expiration date of individual notice: April 1, 2015 (public comments); May 1, 2015 (hearing requests).

Pacific Gas and Electric Company, Docket Nos. 50-275 and 50-323 for Diablo Canyon Nuclear Power Plant (DCPP), Units 1 and 2, Docket No. 72-26 for Diablo Canyon Independent Spent Fuel Storage Installation (ISFSI), San Luis Obispo County, California

Date of amendment request: September 24, 2013, as supplemented by letters dated December 18, 2013 (security-related), and May 15, 2014. Publicly-available versions of the letters dated September 24, 2013, and May 15, 2014, are in ADAMS under Accession Nos. ML13268A398 and ML14135A379, respectively.

Brief description of amendment request: The proposed amendments would modify the licenses to reflect a grant of section 161A of the Atomic Energy Act, to authorize the licensee the authority to possess and use certain firearms, ammunition, and other devices such as large-capacity ammunition feeding devices, to implement the NRC-approved security plan for DCPP, Unit Nos. 1 and 2, and the Diablo Canyon ISFSI.

Date of publication of individual notice in Federal Register: February 18, 2015 (80 FR 8706).

Expiration date of individual notice: March 20, 2015 (public comments); April 19, 2015 (hearing requests).

Southern California Edison Company, et al., Docket Nos. 50-361, 50-362, and 72-41, San Onofre Nuclear Generating Station, Units 2 and 3, and Independent Spent Fuel Storage Installation, San Diego County, California

Date of amendment request: August 28, 2013, as supplemented by letters dated December 31, 2013, May 15, 2014, and February 10, 2015. Publicly-available versions are in ADAMS under Accession Nos. ML13242A277, ML14007A496, ML14139A424, and ML15044A047, respectively.

Brief description of amendment request: The licensee is requesting that the Commission grant it preemption authority consistent with the Commission's authority under section 161A of the Atomic Energy Act of 1954, as amended, to authorize the security personnel of designated classes of licensees to possess, use, and access covered weapons for the physical security of SONGS, Units 2 and 3, and the Independent Spent Fuel Storage Installation, notwithstanding Federal, State, or local laws prohibiting such possession or use. If the amendment request is granted, the licenses would be modified to reflect the Commission's granting of section 161A preemption authority.

Date of publication of individual notice in Federal Register: February 18, 2015 (80 FR 8701).

Expiration date of individual notice: March 20, 2015 (public comments); April 20, 2015 (hearing requests).

IV. Notice of Issuance of Amendments to Facility Operating Licenses and Combined Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR chapter I, which are set forth in the license amendment.

Because of exigent or emergency circumstances associated with the date the amendment was needed, there was not time for the Commission to publish, for public comment before issuance, its usual notice of consideration of issuance of amendment, proposed no significant hazards consideration determination, and opportunity for a hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License or Combined License, as applicable, and (3) the Commission's related letter, Safety Evaluation and/or Environmental Assessment, as indicated. All of these items can be accessed as described in the “Obtaining Information and Submitting Comments” section of this document.

A. Opportunity To Request a Hearing and Petition for Leave To Intervene

The Commission is also offering an opportunity for a hearing with respect to the issuance of the amendment. Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852, and electronically on the Internet at the NRC's Web site, http://www.nrc.gov/reading-rm/doc-collections/cfr/. If there are problems in accessing the document, contact the PDR's Reference staff at 1-800-397-4209, 301-415-4737, or by email to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) the name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner to relief. A requestor/petitioner who fails to satisfy these requirements with respect to at least one contention will not be permitted to participate as a party.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Exelon Generation Company, LLC, Docket No. 50-353, Limerick Generating Station, Unit 2, Montgomery County, Pennsylvania

Date of amendment request: February 12, 2015.

Description of amendment request: The amendment extends the implementation period for Amendment No. 174, “Leak Detection System Setpoint and Allowable Value Changes,” which was issued on December 29, 2014. Amendment No. 174 was effective as of the date of issuance (i.e., on December 29, 2014) and was required to be implemented within 60 days (i.e., by February 27, 2015). Amendment No. 177 extends the implementation period for Amendment No. 174 from 60 days to prior to startup from the spring 2015 refueling outage.

Date of issuance: February 25, 2015.

Effective date: As of its date of issuance and shall be implemented prior to startup from the Spring 2015 Unit 2 Refueling Outage.

Amendment No.: 177. A publicly-available version is in ADAMS under Accession No. ML15049A084; documents related to this amendment are listed in the Safety Evaluation enclosed with the amendment.

Renewed Facility Operating License Nos. NPF-85: Amendment revised the Renewed Facility Operating License to extend the implementation date of Amendment No. 174, issued on December 29, 2014, to prior to startup from the Spring 2015 Unit 2 Refueling Outage.

Public comments requested as to proposed no significant hazards consideration (NSHC): Yes. Public notice of the proposed amendment was published in The Pottstown Mercury, located in in Pottstown, Pennsylvania, on February 15, and February 16, 2015. The notice provided an opportunity to submit comments on the Commission's proposed NSHC determination. Comments were received.

The Commission's related evaluation of the amendment, finding of exigent circumstances, state consultation, public comments, and final NSHC determination are contained in a safety evaluation dated February 25, 2015.

Attorney for licensee: J. Bradley Fewell, Esquire, Vice President and Deputy General Counsel, Exelon Generation Company, LLC, 200 Exelon Way, Kennett Square, PA 19348.

NRC Branch Chief: Douglas A. Broaddus.

Tennessee Valley Authority, Docket Nos. 50-259, 50-260, and 50-296, Browns Ferry Nuclear Plant (BFN), Units 1, 2, and 3, Respectively, Limestone County, Alabama

Date of amendment request: February 12, 2015.

Brief description of amendment request: The amendments revised Technical Specification (TS) 5.6.5, “Core Operating Limits Report (COLR),” to add the date of a previously issued NRC safety evaluation (SE) that stated it was acceptable for the licensee to use new analytical methods supporting the use of ATRIUM 10XM (10XM) fuel. In its letter dated February 12, 2015, the licensee stated BFN, Unit 2, is entering an outage on March 14, 2015, and is scheduled to commence loading 10XM fuel on March 17, 2015. Because the TSs do not reference the aforementioned NRC evaluation, the licensee would not be able to issue a COLR for the Unit 2 transition cycle unless the notation to the latest NRC SE is added. Therefore, the licensee requested that NRC process the license amendment request under exigent circumstances in accordance with 10 CFR 50.91(a)(6). The NRC staff determined that the provisions of 10 CFR 50.91(a)(6) were applicable for processing the licensee's request under exigent circumstances.

Date of issuance: February 26, 2015.

Effective date: As of the date of issuance and shall be implemented during the refueling outages in fall of 2016 for Unit 1, in spring of 2015 for Unit 2, and in spring of 2016 for Unit 3.

Amendment Nos.: 288, 313, and 272, which are available in ADAMS under Accession No. ML15051A337. Documents related to these amendments are listed in the SE enclosed with the amendments.

Renewed Facility Operating License Nos. DPR-33, DPR-52, and DPR-68: Amendments revised the TSs.

Public comments requested as to proposed no significant hazards consideration (NSHC): The public notice was published in “The Huntsville Times,” located in Huntsville, Alabama, on February 18 and 20, 2015. The notice provided an opportunity to submit comments on the Commission's proposed NSHC determination. No comments have been received.

The Commission's related evaluation of the amendment, finding of exigent circumstances, state consultation, and final NSHC determination are contained in a safety evaluation dated February 26, 2015.

Attorney for licensee: General Counsel, Tennessee Valley Authority, 400 West Summit Hill Drive, ET 11A, Knoxville, TN 37902.

NRC Branch Chief: Shana R. Helton.

V. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Entergy Nuclear Operations, Inc., Docket No. 50-255, Palisades Nuclear Plant, Van Buren County, Michigan

Date of application for amendment: December 12, 2012, as supplemented by letters dated February 21, September 30, October 24, and December 2, 2013; April 2, May 7, June 17, August 14, November 4, and December 18, 2014.

Brief description of amendment: The amendment authorizes the transition of the Palisades Nuclear Plant fire protection program to a risk-informed, performance-based program based on National Fire Protection Association (NFPA) 805, in accordance with 10 CFR 50.48(c). NFPA 805 allows the use of performance-based methods such as fire modeling and risk-informed methods such as fire probabilistic risk assessment to demonstrate compliance with the nuclear safety performance criteria.

Date of issuance: February 27, 2015.

Effective date: As of its date of issuance and shall be implemented by six months from the date of issuance.

Amendment No.: 254. A publicly-available version is in ADAMS under Accession No. ML15007A191; documents related to this amendment are listed in the Safety Evaluation enclosed with the amendment.

Renewed Facility Operating License No. DPR-20: Amendment revised the Renewed Facility Operating License and Technical Specifications.

Date of initial notice in Federal Register: February 27, 2014 (79 FR 11148). The supplements dated April 2, May 7, June 17, August 14, November 4, and December 18, 2014, provided additional information that clarified the application, did not expand the scope of the application as originally noticed, and did not change the staff's original proposed no significant hazards consideration determination as published in the Federal Register.

The Commission's related evaluation of the amendment is contained in a Safety Evaluation dated February 27, 2015.

No significant hazards consideration comments received: No.

Entergy Operations, Inc., Docket No. 50-313, Arkansas Nuclear One, Unit 1, Pope County, Arkansas

Date of amendment request: March 26, 2013, as supplemented by letters dated November 14, 2013, and August 18, October 22, and December 5, 2014.

Brief description of amendment: The amendment revised the Technical Specification (TS) requirements for end states associated with the implementation of the NRC-approved Topical Report BAW-2441-A, Revision 2, “Risk-Informed Justification for LCO End-State Changes,” as well as Required Actions revised by a specific Note in TS Task Force (TSTF) change traveler TSTF-431, Revision 3, “Change in Technical Specifications End States (BAW-2441).”

Date of issuance: March 3, 2015.

Effective date: As of the date of issuance and shall be implemented within 90 days from the date of issuance.

Amendment No.: 253. A publicly-available version is in ADAMS under Accession No. ML15023A147; documents related to this amendment are listed in the Safety Evaluation enclosed with the amendment.

Renewed Facility Operating License No. DPR-51: Amendment revised the TSs/license.

Date of initial notice in Federal Register: July 23, 2013 (78 FR 44170). The supplemental letters dated November 14, 2013, and August 19, October 22, and December 5, 2014, provided additional information that clarified the application, did not expand the scope of the application as originally noticed, and did not change the staff's original proposed no significant hazards consideration determination as published in the Federal Register.

The Commission's related evaluation of the amendment is contained in a Safety Evaluation dated March 3, 2015.

No significant hazards consideration comments received: No.

Entergy Operations, Inc., Docket No. 50-382, Waterford Steam Electric Station, Unit 3, St. Charles Parish, Louisiana

Date of amendment request: December 9, 2013, as supplemented by letters dated October 1, 2014, and December 17, 2014.

Brief description of amendment: The amendment revised the Technical Specifications for the Waterford Steam Electric Station, Unit 3 to improve clarity, correct administrative and typographical errors, or establish consistency with NUREG-1432, “Standard Technical Specifications—Combustion Engineering Plants,” Revision 4.0.

Date of issuance: February 23, 2015.

Effective date: As of the date of issuance and shall be implemented 90 days from the date of issuance.

Amendment No.: 242. A publicly-available version is in ADAMS under Accession No. ML15005A126; documents related to this amendment are listed in the Safety Evaluation enclosed with the amendment.

Facility Operating License No. NPF-38: The amendment revised the Facility Operating License and Technical Specifications.

Date of initial notice in Federal Register: August 5, 2014 (79 FR 45475). The supplements dated October 1, 2014, and December 17, 2014, provided additional information that clarified the application, did not expand the scope of the application as originally noticed, and did not change the staff's original proposed no significant hazards consideration determination as published in the Federal Register.

The Commission's related evaluation of the amendment is contained in a Safety Evaluation dated February 23, 2015.

No significant hazards consideration comments received: No.

Florida Power and Light Company, et al., Docket Nos. 50-335 and 50-389, St. Lucie Plant, Units 1 and 2, St. Lucie County, Florida

Date of amendment request: February 26, 2014, as supplemented by letters dated May 29 and July 25, 2014.

Brief description of amendment: The amendments revised the Technical Specifications (TSs), modifying requirements for mode change limitations in Limiting Condition for Operation 3.0.4 and Surveillance Requirement (SR) 4.0.4 to adopt the provisions of Industry/TS Task Force (TSTF)-359, Rev. 9, “Increase Flexibility in MODE Restraints.” The language of SR 4.0.1 is revised to conform to the language of NUREG-1432, “Standard Technical Specifications for Combustion Engineering Plants,” to resolve language incongruences and ensure conservative implementation of the TSTF-359, Rev. 9, changes.

Date of issuance: February 27, 2015.

Effective date: As of the date of issuance and shall be implemented within 60 days of issuance.

Amendment Nos.: 220 and 170. A publicly-available version is in ADAMS under Accession No. ML14343A918; documents related to these amendments are listed in the Safety Evaluation (SE) enclosed with the amendments.

Facility Operating License Nos. DPR-67 and NPF-16: Amendments revised the Renewed Facility Operating Licenses and TSs.

Date of initial notice in Federal Register: May 27, 2014 (79 FR 30187). The supplements dated May 29 and July 25, 2014, provided additional information that clarified the application, did not expand the scope of the application as originally noticed, and did not change the staff's original proposed no significant hazards consideration determination as published in the Federal Register.

The Commission's related evaluation of the amendments is contained in a SE dated February 27, 2015.

No significant hazards consideration comments received: No.

Luminant Generation Company LLC, Docket Nos. 50-445 and 50-446, Comanche Peak Nuclear Power Plant, Units 1 and 2, Somervell County, Texas

Date of amendment request: July 1, 2014.

Brief description of amendment: The amendments revised Technical Specification 3.8.1, “AC [Alternating Current] Sources—Operating,” to extend on a one-time basis the Completion Time (CT) of Required Action A.3, “Restore required offsite circuit to OPERABLE status,” from 72 hours to 14 days. The CT extension from 72 hours to 14 days will be used while completing the plant modification to install alternate startup transformer XST1A and will expire on March 31, 2017.

Date of issuance: February 24, 2015.

Effective date: As of the date of issuance and shall be implemented within [licensee requested number] days from the date of issuance.

Amendment Nos.: Unit 1—164; Unit 2—164. A publicly-available version is in ADAMS under Accession No. ML15008A133; documents related to these amendments are listed in the Safety Evaluation enclosed with the amendments.

Facility Operating License Nos. NPF-87 and NPF-89: The amendments revised the Facility Operating Licenses and Technical Specifications.

Date of initial notice in Federal Register: October 28, 2014 (79 FR 64226).

The Commission's related evaluation of the amendments is contained in a Safety Evaluation dated February 24, 2015.

No significant hazards consideration comments received: No.

Omaha Public Power District, Docket No. 50-285, Fort Calhoun Station, Unit 1, Washington County, Nebraska

Date of amendment request: April 30, 2014, as supplemented by letter dated January 27, 2015.

Brief description of amendment: The amendment revised Technical Specification section 3.2, Table 3-5, for Fort Calhoun Station, Unit No. 1, to add a new surveillance requirement to verify the correct position of the valves required to restrict flow in the high pressure safety injection system.

Date of issuance: February 20, 2015.

Effective date: As of the date of issuance and shall be implemented within 120 days from the date of issuance.

Amendment No.: 280. A publicly-available version is in ADAMS under Accession No. ML15015A413; documents related to this amendment are listed in the Safety Evaluation enclosed with the amendment.

Renewed Facility Operating License No. DPR-40: The amendment revised the license and Technical Specifications.

Date of initial notice in Federal Register: August 19, 2014 (79 FR 49108). The supplemental letter dated January 27, 2015, provided additional information that clarified the application, did not expand the scope of the application as originally noticed, and did not change the staff's original proposed no significant hazards consideration determination as published in the Federal Register.

The Commission's related evaluation of the amendment is contained in a safety evaluation dated February 20, 2015.

No significant hazards consideration comments received: No.

STP Nuclear Operating Company, Docket Nos. 50-498 and 50-499, South Texas Project, Units 1 and 2, Matagorda County, Texas

Date of amendment request: August 14, 2014, as supplemented by letter dated December 18, 2014.

Brief description of amendments: The amendments revised Administrative Controls Technical Specification (TS) 6.9.1.6, “Core Operating Limits Report (COLR),” with respect to the analytical methods used to determine the core operating limits.

Date of issuance: February 27, 2015.

Effective date: As of the date of issuance and shall be implemented within 90 days of issuance.

Amendment Nos.: Unit 1—204; Unit 2—192. A publicly-available version is in ADAMS under Accession No. ML15049A129; documents related to these amendments are listed in the Safety Evaluation enclosed with the amendments.

Facility Operating License Nos. NPF-76 and NPF-80: The amendments revised the Facility Operating Licenses and Technical Specifications.

Date of initial notice in Federal Register: December 2, 2014 (79 FR 71455). The supplemental letter dated December 18, 2014, provided additional information that clarified the application, did not expand the scope of the application as originally noticed, and did not change the staff's original proposed no significant hazards consideration determination as published in the Federal Register.

The Commission's related evaluation of the amendments is contained in a Safety Evaluation dated February 27, 2015.

No significant hazards consideration comments received: No.

Dated at Rockville, Maryland, this 9th day of March 2015.
For the Nuclear Regulatory Commission.
Michele G. Evans,
Director, Division of Operating Reactor Licensing, Office of Nuclear Reactor Regulation.

[FR Doc. 2015-05994 Filed 3-16-15; 8:45 am]

BILLING CODE 7590-01-P